DEPARTMENT OF COMMERCE

Submission for OMB Review; Comment Request

DOC will submit to the Office of Management and Budget (OMB) for clearance the following proposal for collection of information under the provisions of the Paperwork Reduction Act (44 U.S.C. chapter 35).

Agency: U.S. Census Bureau.

Title: Survey of Plant Capacity Utilization.

Form Number(s): MQ-C1, MQ-C2.

Agency Approval Number: 0607-0175.

Type of Request: Revision of a currently approved collection.

Burden: 74,250 hours.

Number of Respondents: MQ-C1—17,000; MQ-C2—6,000.

Avg. Hours per Response: MQ-C1—2.25 hours; MQ-C2—1.5 hours.

Needs and Uses: The U.S. Census Bureau requests a revision of approval for the Survey of Plant Capacity Utilization (SPC). The current survey is conducted annually and collects fourth quarter production data. The survey provides information on use of industrial capacity in manufacturing and publishing plants as defined by the North American Industry Classification System (NAICS). It is the only source of capacity rates at the 6-digit NAICS industry levels.

Changes in capacity utilization are considered important indicators of investment demand and inflationary pressure. For these reasons, the estimates of capacity utilization are closely monitored by government and private policy makers.

The annual survey (MQ-C1) collects the value of fourth quarter production and the value of production that could have been achieved if operating under “full production” and “emergency production” levels. The ratios of the actual to the full and emergency production levels are the basis of the estimates of capacity utilization. The survey also collects information by shift, on work patterns at actual production and full production levels.

With support from the Federal Reserve Board (FRB), the Census Bureau is requesting approval to collect capacity utilization data on a quarterly basis in addition to the annual collection. Response to the quarterly survey (MQ-C2) would be voluntary. Response to the annual survey is mandatory. The quarterly survey would collect a subset of the data collected on the annual survey.

The FRB is the primary user of the current SPC data and have expressed the need for these quarterly data. The FRB publishes measures of industrial production (IP) that are either estimated from physical product data or estimated from monthly data on inputs to the production process, specifically production worker hours and an indicator of capital input. For many years, data on electric power use was used as the indicator of industry capital input. The deregulation of electricity markets led to the deterioration in the coverage and quality of the electricity data.

As a result, in November 2005, the FRB discontinued its use of the industrial electric power data in the current estimates of IP. In order to maintain the quality of the IP index, the collection of these quarterly utilization data, such as the workweek of capital, become critical indicators of capital input use and industry output.

The FRB will use these data in several ways. First, the capital workweek data will be used as an indicator of capital use in the estimation of monthly output (IP). Second, the workweek data will also be used to improve the projections of labor productivity that are used to align IP with comprehensive benchmark information in the Economic Census covering the Manufacturing sector and Annual Survey of Manufactures. Third, the utilization rate data will assist in the assessment of recent changes in IP, as most of the high-frequency movement in utilization rates reflect production changes rather than capacity changes.

The Defense Logistics Agency uses the data to assess readiness to meet demand for goods under selected national emergency scenarios.

Affected Public: Business or other for-profit.

Frequency: MQ-C1—Annually; MQ-C2—Quarterly.

Respondent's Obligation: MQ-C1—Mandatory; MQ-C2—Voluntary.

Legal Authority: Title 13 U.S.C., Sections 182 and 225.

OMB Desk Officer: Susan Schechter, (202) 395-5103.

Copies of the above information collection proposal can be obtained by calling or writing Diana Hynek, Departmental Paperwork Clearance Officer, (202) 482-0266, Department of Commerce, room 6625, 14th and Constitution Avenue, NW., Washington, DC 20230 (or via the Internet at dhynek@doc.gov).

Written comments and recommendations for the proposed information collection should be sent within 30 days of publication of this notice to Susan Schechter, OMB Desk Officer either by fax (202-395-7245) or e-mail (susan_schechter@omb.eop.gov).

Dated: August 24, 2006.
Madeleine Clayton,
Management Analyst, Office of the Chief Information Officer.

[FR Doc. E6-14359 Filed 8-29-06; 8:45 am]

BILLING CODE 3510-07-P